DEPARTMENT OF HEALTH AND HUMAN SERVICES

National Institutes of Health

Center for Scientific Review; Amended Notice of Meeting

Notice is hereby given of a change in the meeting of the Center for Scientific Review Special Emphasis Panel; Member Conflict: Epidemiology and Population Health, January 29, 2026, 10:00 a.m. to January 29, 2026, 06:00 p.m., National Institutes of Health, Rockledge II, 6701 Rockledge Drive, Bethesda, MD 20892 which was published in the Federal Register on December 03, 2025, 90 FR 55750, Doc 2025-21843.

This meeting is being amended due to SRO changing from Dr. Jingsheng Tuo to Dr. Jana Drgonova. The meeting is closed to the public.

Dated: January 20, 2026.
Sterlyn H. Gibson,
Program Specialist, Office of Federal Advisory Committee Policy.

[FR Doc. 2026-01203 Filed 1-22-26; 8:45 am]

BILLING CODE 4140-01-P